DEPARTMENT OF TRANSPORTATION

Federal Aviation Administration

Noise Compatibility Program Notice Baton Rouge Metropolitan Airport, Ryan Field, Baton Rouge, LA

AGENCY: Federal Aviation Administration, DOT.

ACTION: Notice.

SUMMARY: The Federal Aviation Administration (FAA) announces its findings on the noise compatibility program submitted by the Greater Baton Rouge Airport District under the provisions of 49 U.S.C. (the Aviation Safety and Noise Abatement Act, hereinafter referred to as “the Act”) and 14 CFR part 150. These findings are made in recognition of the description of Federal and nonfederal responsibilities in Senate Report No. 96-52 (1980). On July 30, 2007, the FAA determined that the noise exposure maps submitted by the Greater Baton Rouge Airport District under part 150 were in compliance with applicable requirements. On November 13, 2007, the FAA approved the Baton Rouge Metropolitan Airport, Ryan Field noise compatibility program. Most of the recommendations of the program were approved. No program elements relating to new or revised flight procedures for noise abatement were proposed by the airport operator.

DATES: Effective Date: The effective date of the FAA’s approval of the Baton Rouge Metropolitan Airport, Ryan Field noise compatibility program is November 13, 2007.

FOR FURTHER INFORMATION CONTACT: Lance E. Key (ASW 615), 2601 Meacham Boulevard, Fort Worth, Texas 76137-4298. Documents reflecting this FAA action may be reviewed at this same location.

SUPPLEMENTARY INFORMATION: This notice announces that the FAA has given its overall approval to the noise compatibility program for Baton Rouge Metropolitan Airport, Ryan Field, effective November 13, 2007.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) part 150 is a local program, not a Federal program. The FAA does not substitute its judgment for that of the airport proprietor with respect to which measures should be recommended for action. The FAA's approval or disapproval of FAR part 150 program recommendations is measured according to the standards expressed in part 150 and the Act and is limited to the following determinations:

a. The noise compatibility program was developed in accordance with the provisions and procedures of FAR part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Regional Office in Fort Worth, Texas.

The Greater Baton Rouge Airport District submitted to the FAA on May 14, 2007 the noise exposure maps, descriptions, and other documentation produced during the noise compatibility planning study conducted from May 2005 through May 2007. The Baton Route Metropolitan Airport, Ryan Field noise exposure maps were determined by FAA to be in compliance with applicable requirements on July 30, 2007. Notice of this determination was published in the Federal Register on August 7, 2007.

The Baton Rouge Metropolitan Airport, Ryan Field Part 150 study contains a proposed noise compatibility program comprised of actions designed for phased implementation by airport management and adjacent jurisdictions from November 2007 to the year 2011. It was requested that the FAA evaluate and approve this material as a noise compatibility program as described in section 47504 of the Act. The FAA began its review of the program on August 7, 2007, and was required by a provision of the Act to approve or disapprove the program within 180 days (other than the use of new or modified flight procedures for noise control). Failure to approve or disapprove such program within the 180-day period shall be deemed to be an approval of such program.

The submitted program contained ten proposed actions for noise mitigation located on and/or off the airport. The FAA completed its review and determined that the procedural and substantive requirements of the Act and FAR Part 150 have been satisfied. The overall program, therefore, was approved by the FAA effective November 13, 2007.

Outright approval was granted for nine of the specific program elements. Only one program element, Land Use Element 3a, was “Disapproved Pending Submittal of Additional Information to the FAA”. Under this program element, the Airport District asked the FAA to approve the voluntary land acquisition of one hundred eight (108) acres of undeveloped land that was zoned to allow incompatible development within the 2011 65 DNL around Baton Rouge Metropolitan Airport, Ryan Field. The acreage in question amounted to 13 separate parcels in various locations northwest, northeast, east and southeast of the airport. In disapproving this program element, the FAA found the land in question to be zoned commercial or industrial (a compatible use under Part 150 guidelines), however the involved local zoning districts all permit a variety of noise-sensitive land uses; to include libraries, nursing homes, assisted living residences and hospitals (noncompatible use) within the areas described. In addition, it was determined that undeveloped, residential-zoned land (noncompatible use) northwest, northeast, and east of the Airport is inside the 65 DNL. The FAA therefore determined that supporting documentation would need to be provided showing that (1) the Airport is in compliance with its Grant Assurance 31, (2) appropriate existing and proposed new local land use controls are inadequate to prevent noncompatible development, and (3) noncompatible development of the parcel(s) is highly likely.

The nine program elements approved by the FAA included: Five Land Use Elements that addressed City/Parish compatible use planning around the airport; the development of an airport noise information program; the acquisition of seven (7) homes at various locations around the airport (within the 65 DNL); the offer to sound insulate ninety-two (92) homes located with the 65 DNL contour; and the offer to purchase noise servitudes from those owners who do not wish to participate in the sound insulation program or who's house cannot accommodate the sound insulation process.

Four Program Management Elements were approved that established a system for logging and tracking noise complaints; developing and maintaining a log for recording engine maintenance run-ups on the airport; periodically reviewing the Part 150 Study to determine if changing airport conditions warrant further review; and preparing a plan to deal with the disposal or development of noise lands acquired by the airport under previous noise mitigation actions.

These determinations are set forth in detail in a Record of Approval signed by the Airports Division Manager on November 13, 2007. The Record of Approval, as well as other evaluation materials and the documents comprising the submittal, are available for review at the FAA office listed above and at the administrative offices of the Baton Rouge Metropolitan Airport, Ryan Field. The Record of Approval also will be available on-line at http://www.faa.gov/apr/environmental/14cfr150/index14.cfm.

Issued in Fort Worth, Texas, November 21, 2007.
Kelvin L. Solco,
Manager, Airports Division.

[FR Doc. 07-5873 Filed 11-28-07; 8:45 am]

BILLING CODE 4910-13-M